ENVIRONMENTAL PROTECTION AGENCY

[EPA-HQ-OPPT-2023-0351; FRL-11152-02-OCSPP]

Definition of Lead-Based Paint Joint Virtual Workshop; Notice of Public Meeting Date Corrections

AGENCY: Environmental Protection Agency (EPA).

ACTION: Notice.

SUMMARY: In the Federal Register of July 12, 2023, the Environmental Protection Agency (EPA) announced that it is co-hosting a virtual workshop with the Department of Housing and Urban Development (HUD) to hear stakeholder perspectives on specific topics related to detection of and exposure to potential lead hazards from existing residential lead-based paint. EPA and HUD have subsequently identified that many stakeholders have a conflict with the original planned dates for the virtual workshop that was planned to be held on October 17 and 18, 2023. As such, EPA and HUD have determined to change the dates for the virtual workshop to November 1 and 2, 2023. In addition, the deadline for abstract submissions is changed to August 11, and the deadline for registration and special accommodation requests is now October 13.

DATES:

Presenter Abstracts: Submit an abstract for your presentation on or before August 11, 2023.

Special accommodations: Requests for special accommodations should be submitted on or before October 13, 2023.

Public Meeting: Will be held virtually on November 1 and 2, 2023, from 10:00 a.m. to approximately 5:00 p.m. (EDT) each day.

Comments: Submit your written comments on or before December 31, 2023.

ADDRESSES:

Public Meeting: You must register online to receive the webcast meeting link and audio teleconference information. Please follow the registration instructions that will be announced on the lead program website at: https://www.epa.gov/lead/2023-lead-based-paint-technical-workshop by October 13, 2023.

Comments: Submit comments, identified by docket identification (ID) number EPA-HQ-OPPT-2023-0351, through https://www.regulations.gov. Follow the online instructions for submitting comments. Do not electronically submit any information you consider to be Confidential Business Information (CBI) or other information whose disclosure is restricted by statute. Additional information on commenting or visiting the docket, along with more information about dockets generally, is available at https://www.epa.gov/dockets.

Special accommodations: For information on access or services for individuals with disabilities, and to request accommodation for a disability, please contact the person listed under FOR FURTHER INFORMATION CONTACT.

FOR FURTHER INFORMATION CONTACT: Catherine Taylor, Office of Chemical Safety and Pollution Prevention, Environmental Protection Agency, 1200 Pennsylvania Ave. NW, Washington, DC 20004; telephone number: (202) 566-3008; email address: taylor.catherine@epa.gov. Individuals who have speech or other communication disabilities may use a relay service to reach the contact phone number provided. To learn more about how to make an accessible telephone call, visit the web page for the Federal Communications Commission's Telecommunications Relay Service, https://www.fcc.gov/consumers/guides/telecommunications-relay-service-trs.

SUPPLEMENTARY INFORMATION: This document corrects the specific meeting dates and the other dates announced in the Federal Register of July 12, 2023 (88 FR 44297; FRL-11152-01-OCSPP). To accommodate the many stakeholders that have a conflict with the original planned dates for the virtual workshop, EPA and HUD have changed the dates for the virtual workshop to November 1 and 2, 2023. For additional details about the public meeting and request for comment, please refer to the instructions and information provided in the Federal Register of July 12, 2023.

Authority: 15 U.S.C. 2601 et seq.

Dated: July 20, 2023.
Denise Keehner,
Director, Office of Pollution Prevention and Toxics.

[FR Doc. 2023-15753 Filed 7-25-23; 8:45 am]

BILLING CODE 6560-50-P